ENVIRONMENTAL PROTECTION AGENCY

40 CFR Part 52

[EPA-R07-OAR-2016-0045; FRL-9943-89-Region 7]

Approval of Iowa Air Quality Implementation Plans; Withdrawal of Direct Final Rule; Polk County Board of Health Rules and Regulations, Chapter V, Revisions

AGENCY: Environmental Protection Agency (EPA).

ACTION: Withdrawal of direct final rule.

SUMMARY: Due to an adverse comment, the Environmental Protection Agency (EPA) is withdrawing the direct final rule to approve a state implementation plan revision submitted by the State of Iowa pertaining to the “Polk County Board of Health Rules and Regulations, Chapter V.” In the direct final rule published on February 17, 2016, we stated that if we received adverse comment by March 18, 2016, the rule would be withdrawn and not take effect. EPA subsequently received an adverse comment. EPA will address the comment received in a subsequent final action based upon the proposed action also published on February 17, 2016. EPA will not institute a second comment period on this action.

DATES: Effective March 17, 2016, the direct final rule published at 81 FR 7979, February 17, 2016, is withdrawn.

FOR FURTHER INFORMATION CONTACT: Heather Hamilton Environmental Protection Agency, Air Planning and Development Branch, 11201 Renner Boulevard, Lenexa, Kansas 66219 at 913-551-7039, or by email at Hamilton.heather@epa.gov.

SUPPLEMENTARY INFORMATION: Due to an adverse comment, the Environmental Protection Agency (EPA) is withdrawing the direct final rule to approve a state implementation plan revision submitted by the State of Iowa pertaining to the “Polk County Board of Health Rules and Regulations, Chapter V.” In the direct final rule published on February 17, 2016, (81 FR 7979), we stated that if we received adverse comment by March 18, 2016, the rule would be withdrawn and not take effect. EPA subsequently received an adverse comment. EPA will address the comment received in a subsequent final action based upon the proposed action also published on February 17, 2016, (81 FR 8030). EPA will not institute a second comment period on this action.

List of Subjects in 40 CFR Part 52

Environmental protection, Air pollution control, Intergovernmental relations, Incorporation by reference, Reporting and recordkeeping requirements.

Dated: March 9, 2016.
Mark Hague,
Regional Administrator, Region 7.

Accordingly, the direct final rule published at 81 FR 7979, February 17, 2016, is withdrawn as of March 17, 2016.

[FR Doc. 2016-06061 Filed 3-16-16; 8:45 am]

BILLING CODE 6560-50-P